DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Vessel Monitoring System Requirements in the Western Pacific Pelagic Longline Fishery, American Samoa Longline and Commonwealth of the Northern Mariana Islands Bottomfish Fisheries.

OMB Control Number: 0648-0441.

Form Number(s): NA.

Type of Request: Regular submission (extension of a current information collection).

Number of Respondents: 208.

Average Hours Per Response: Installation of vessel monitoring system (VMS), 4 hours; replacement, two hours, maintenance/repair, one hour and 30 minutes.

Burden Hours: 170.

Needs and Uses: As part of the Western Pacific Management Plan, authorized under the Magnuson-Stevens Fishery Conservation and Management Act (16 U.S.C. 1801 et seq.), vessels registered to Hawaii longline limited entry permits, large (greater than 50 ft. overall length) vessels registered to American Samoa longline limited entry permits, and medium (greater than 40 ft. overall length) and large vessels registered to Commonwealth of the Northern Mariana Islands (CNMI) bottomfish permits must have satellite-based vessel monitoring systems (VMS) installed and operating during all fishing operations. VMS data are used to monitor compliance with closed and prohibited fishing areas (including Marine National Monument areas closed to commercial fishing), and verification of logbook reports, among other compliance and verification purposes. This renewal includes the consolidation of VMS requirements from currently approved OMB Control Numbers 0648-0441 (VMS requirements for the Hawaii longline fishery), 0648-0519 (VMS requirements for the American Samoa longline fishery), and 0648-0584 (permitting, vessel identification, and VMS requirements for the commercial bottomfish fishery in the CNMI) into 0648-0441.

Affected Public: Business or other for-profit organizations.

Frequency: Annually.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: December 7, 2010.
Gwellnar Banks,
Management Analyst, Office of the Chief Information Officer.

[FR Doc. 2010-31155 Filed 12-10-10; 8:45 am]

BILLING CODE 3510-22-P